DEPARTMENT OF COMMERCE

International Trade Administration

(A-201-834)

Notice of Final Determination of Sales at Less Than Fair Value: Purified Carboxymethylcellulose from Mexico

AGENCY: Import Administration, International Trade Administration, Department of Commerce.

SUMMARY: On December 27, 2004, the U.S. Department of Commerce (the Department) published a preliminary determination in the antidumping duty investigation of purified carboxymethylcellulose (CMC) from Mexico (69 FR 77201). The petitioner is Aqualon Company (Aqualon or petitioner), a division of Hercules Incorporated. The respondent is Quimica Amtex S.A. de C.V. of Mexico (Amtex). We gave interested parties an opportunity to comment on the preliminary determination. No interested party submitted case briefs, and no hearing was held. Based upon the results of verification, we have made certain minor changes to the dumping calculations. We continue to find that purified CMC from Mexico is being, or is likely to be, sold in the United States at less than fair value (LTFV) as provided in section 735 of the Tariff Act. The final weighted-average dumping margins are listed below in the section entitled “Continuation of Suspension of Liquidation.”

EFFECTIVE DATE: May 17, 2005.

FOR FURTHER INFORMATION CONTACT: Mark Flessner or Robert James, AD/CVD Operations, Office 7, Import Administration, International Trade Administration, U.S. Department of Commerce, 14th Street and Constitution Avenue, NW, Washington, DC 20230; telephone: (202) 482-6312 or (202) 482-0649, respectively.

SUPPLEMENTARY INFORMATION:

Background

On December 16, 2004, the Department determined that purified CMC from Mexico is being, or is likely to be, sold in the United States at less than fair value, as provided in section 733(b) of the Tariff Act of 1930, as amended (the Act). See Preliminary Determination of Sales at Less Than Fair Value and Postponement of Final Determination: Purified Carboxymethylcellulose from Mexico, 69 FR 77201 (December 27, 2004) (Preliminary Determination). The Department released disclosure materials to interested parties on December 22, 2004.

From February 21, 2005, through February 25, 2005, the Department verified the questionnaire responses of Amtex. See Memorandum to the File, from Robert James and Mark Flessner, Office VII, “Purified Carboxymethylcellulose from Mexico: Verification of Quimica Amtex, S.A. de C.V.,” dated April 8, 2005 (Verification Report).

On December 21, 2004, Amtex submitted a proposal for a suspension agreement in this investigation. On January 18, 2005, petitioner filed a letter expressing support for the Amtex proposal. The Department did not find that the circumstances surrounding this investigation warranted departing from the Department's normal course in concluding an investigation. (See Letter from Grant D. Aldonas, Under Secretary for International Trade, to Lic. Juan Antonio Garcia Villa, Subsecretario de Normatividad, dated March 4, 2005, and Letter from Joseph A. Spetrini, Acting Assistant Secretary for Import Administration, to the Honorable Ken Smith Ramos, Director General for International Trade Negotiations, dated May 6, 2005, which is on the public file in the Department's Central Record Unit (CRU), room B-099 of the main Commerce building.)

Neither party submitted case briefs, and no hearing was held.

Scope of Investigation

For purposes of this investigation, the products covered are all purified carboxymethylcellulose (CMC), sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent.

The merchandise subject to this investigation is classified in the Harmonized Tariff Schedule of the United States at subheading 3912.31.00. This tariff classification is provided for convenience and customs purposes; however, the written description of the scope of this investigation is dispositive.

Period of Investigation

The period of investigation (POI) is April 1, 2003, through March 31, 2004. This period corresponds to the four most recent fiscal quarters prior to the filing of the petition on June 9, 2004.

Fair Value Comparisons

We calculated export price and normal value based on the same methodologies used in the Preliminary Determination. We used the home market and U.S. sales databases submitted by Amtex after verification, which included minor corrections presented at the beginning of verification and findings from verification. (See Memorandum to the File from Mark Flessner, Case Analyst, through Robert James, Program Manager, dated May 10, 2005 (Analysis Memo), at section II; see also Verification Report.)

Cost of Production and Constructed Value

We calculated the cost of production and constructed value for Amtex based on the same methodologies used in the Preliminary Determination.

Verifications

As provided in section 782(i)(1) of the Act, we verified the information submitted by respondents during the period February 21 through 25, 2005. See Verification Report. We used standard verification procedures, including examination of relevant accounting and production records, as well as original source documents provided by the respondents.

Analysis of Comments Received

We did not receive any interested party comments on our preliminary decision or on our Verification Report. Therefore, there is no Issues and Decisions Memorandum for this final determination.

Continuation of Suspension of Liquidation

In accordance with section 735(c)(1)(B)(ii) of the Act, we are directing the U.S. Customs and Border Protection (CBP) to continue to suspend liquidation of all imports of subject merchandise from Mexico that are entered, or withdrawn from warehouse, for consumption on or after December 27, 2004, the date of publication of the Preliminary Determination in the Federal Register. The CBP shall continue to require a cash deposit or the posting of a bond equal to the weighted-average amount by which the NV exceeds the EP, as indicated in the chart below. These suspension-of-liquidation instructions will remain in effect until further notice. The weighted-average dumping margins are as follows:

Producer | POI | Weighted-Average Margin (percent)
Quimica Amtex, S.A. de C.V. | 04/01/03 - 03/31/04 | 12.61
All Others | 04/01/03 - 03/31/04 | 12.61

See Memorandum to the File, Final Determination Analysis for Quimica Amtex, S.A. de C.V., dated May 10, 2005. Public versions of the analysis memorandum are on file in the CRU.

ITC Notification

In accordance with section 735(d) of the Act, we have notified the International Trade Commission (ITC) of our determination. As our final determination is affirmative, the ITC will, within 45 days, determine whether these imports are materially injuring, or threatening material injury to, the United States industry. If the ITC determines that material injury, or threat of material injury, does not exist, the proceeding will be terminated and all securities posted will be refunded or canceled. If the ITC determines that such injury does exist, the Department will issue an antidumping duty order.

Notification to Interested Parties

This notice also serves as a reminder to parties subject to administrative protective order (APO) of their responsibility concerning the disposition of proprietary information disclosed under APO in accordance with 19 CFR 351.305. Timely notification of return or destruction of APO materials, or conversion to judicial protective order, is hereby requested. Failure to comply with the regulations and the terms of an APO is a sanctionable violation.

This determination is issued and published in accordance with sections 735(d) and 777(i)(1) of the Act.

Dated: May 10, 2005.
Joseph A. Spetrini,
Acting Assistant Secretary for Import Administration.

[FR Doc. E5-2470 Filed 5-16-05; 8:45 am]

BILLING CODE 3510-DS-S